DEPARTMENT OF COMMERCE

International Trade Administration

[A-533-823; A-834-807; A-307-820]

Silicomanganese From India, Kazakhstan, and Venezuela: Final Results of Expedited Third Sunset Reviews of the Antidumping Duty Orders

AGENCY: Enforcement and Compliance, International Trade Administration, Department of Commerce.

SUMMARY: As a result of these sunset reviews, the Department of Commerce (Commerce) finds that revocation of the antidumping duty orders on silicomanganese from India, Kazakhstan, and Venezuela would be likely to lead to continuation or recurrence of dumping. The magnitude of the dumping margins likely to prevail are indicated in the “Final Results of Sunset Review” section of this notice.

DATES: Applicable December 17, 2018.

FOR FURTHER INFORMATION CONTACT: Jacqueline Arrowsmith, AD/CVD Operations, Office VII, Enforcement and Compliance, U.S. Department of Commerce, 1401 Constitution Avenue NW, Washington, DC 20230; telephone (202) 482-5255.

SUPPLEMENTARY INFORMATION:

Background

On May 23, 2002, Commerce published the Amended Final Determination of Sales at Less Than Fair Value and Antidumping Duty Orders: Silicomanganese from India, Kazakhstan, and Venezuela (AD Orders).¹ On October 2, 2013, the Department published the notice of continuation of these AD Orders.²

¹ See Notice of Amended Final Determination of Sales at Less Than Fair Value and Antidumping Duty Orders: Silicomanganese from India, Kazakhstan, and Venezuela, 67 FR 36149 (May 23, 2002).

² See Silicomanganese from India, Kazakhstan, and Venezuela: Continuation of Antidumping Duty Orders, 78 FR 60846 (October 2, 2013) (Third Continuation of the AD Orders).

On September 11, 2018, Commerce published the notice of initiation of the sunset reviews of the AD Orders on silicomanganese from India, Kazakhstan, and Venezuela, pursuant to section 751(c) of the Tariff Act of 1930, as amended (the Act).³

³ See Initiation of Five-Year (“Sunset”) Reviews, 83 FR 45887 (September 11, 2018) (Initiation).

On September 13, 2018, Commerce received a notice of intent to participate from Eramet Marietta, Inc. (Eramet) as a domestic interested party, within the deadline specified in 19 CFR 351.218(d)(1)(i).⁴ Eramet claimed interested party status under section 771(9)(C) of the Act as a producer in the United States of the domestic like product. On October 1, 2018, the Department received a complete substantive response to the notice of initiation from Eramet within the 30-day deadline specified in 19 CFR 351.218(d)(3)(i). The Department received no substantive responses from respondent interested parties. As a result, the Department conducted an expedited, i.e., 120-day, sunset review of these AD Orders pursuant to section 751(c)(3)(B) of the Act and 19 CFR 351.218(e)(1)(ii)(C)(2).

⁴ See Eramet's submission “Five-Year (“Sunset”) Reviews of Antidumping Duty Orders on Silicomanganese from India, Kazakhstan, and Venezuela: Notice of Intent to Participate” (September 13, 2018).

Scope of the Orders

For purposes of these orders, the products covered are all forms, sizes and compositions of silicomanganese, except low-carbon silicomanganese, including silicomanganese briquettes, fines and slag. Silicomanganese is a ferroalloy composed principally of manganese, silicon and iron, and normally contains much smaller proportions of minor elements, such as carbon, phosphorous and sulfur. Silicomanganese is sometimes referred to as ferrosilicon manganese. Parties can find the full description of the scope of these AD Orders in the Issues and Decision Memo, which is on file electronically via Enforcement and Compliance's Antidumping and Countervailing Duty Centralized Electronic Service System (ACCESS). ACCESS is available to registered users at http://access.trade.gov and is available to all parties in the Central Records Unit in Room B8024 of the main Commerce building. In addition, a complete version of the Issues and Decision Memorandum can be accessed directly on the internet at http://trade.gov/enforcement/. The signed and electronic versions of the Decision Memorandum are identical in content.

Analysis of Comments Received

All issues raised in these reviews are addressed in the Issues and Decision Memorandum, including the likelihood of continuation or recurrence of dumping in the event of revocation and the magnitude of dumping margins likely to prevail if the orders were revoked. Parties can find a complete discussion of all issues raised in these reviews and the corresponding recommendations in the Issues and Decision Memorandum.

Final Results of Sunset Review

Pursuant to sections 752(c)(1) and (3) of the Act, we determine that revocation of the antidumping duty orders on silicomanganese from India, Kazakhstan, and Venezuela would be likely to lead to continuation or recurrence of dumping. We determine that the weighted-average dumping margins likely to prevail are up to the following percentages:

Country | Weighted average margin (percent)
India | 20.53
Kazakhstan | 247.88
Venezuela | 24.62

Notification to Interested Parties

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

We are issuing and publishing these results and notice in accordance with sections 751(c), 752(c), and 777(i)(1) of the Act.

Dated: December 10, 2018.
Gary Taverman,
Deputy Assistant Secretary for Antidumping and Countervailing Duty Operations, performing the non-exclusive functions and duties of the Assistant Secretary for Enforcement and Compliance.

[FR Doc. 2018-27242 Filed 12-14-18; 8:45 am]

BILLING CODE 3510-DS-P